NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by October 19, 2006. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Mahlon C. Kennicutt, II (Permit Application No. 2007-012), Director, Sustainable Development, Office of the Vice President for Research, 1112 TAMU, College Station, TX 77843-1112.

Activity for Which Permit Is Requested: Take, Enter Antarctic Specially Protected Area, and Import into the U.S.A. The applicant plans to enter the Arrival Heights Antarctic Specially Protected Area (ASPA #122) for the purpose of collecting soil samples and permafrost measurements as part of an ongoing environmental monitoring program. The applicant also plans to use Bratina Island as a control site.

Location: Bratina Island and Arrival Heights (ASPA #122).

Dates: November 21, 2006 to December 31, 2006.

2. Applicant: Evan Bloom (Permit Application No. 2007-013), OES/OA, Rm. 2665, Department of State, 2201 C Street, NW., Washington, DC 20520.

Activity for Which Permit Is Requested: Enter Antarctic Specially Protected Area. The applicant plans to enter the Cape Shirreff Antarctic Specially Protected Area #149 for the purpose of conducting an Antarctic Treaty Inspection of the Chilean Field Camp of Guillermo Mann and the U.S. (NOAA) Cape Shirreff Field Station.

Location: Cape Shirreff, Livingston Island (ASMA #149).

Dates: November 12, 2006 to December 1, 2006.

3. Applicant: Kam W. Tang (Permit Application No. 2007-014), Virginia Institute of Marine Science, P.O. Box 1346, 1208 Greate Road, Gloucester Point, VA 23062.

Activity for Which Permit Is Requested: Introduce Non-indigenous Species into Antarctica, Take and Import into the U.S.A. The applicant proposes to bring previously caught Antarctic phytoplankton (Phaeocystis Antarctica, Ciliate—species unknown, Rhodomonas salina and Dunaliella tertiolecta) to Crary Lab at McMurdo Station for use in a series of incubation experiments to determine the growth, photosynthetic activities and trophic processes under controlled conditions. All experiments will be conducted using contained incubators. All cultures will be properly disposed of at the end of the field season. The applicant also plans to collect 50 L of phytoplankton for scientific study in the U.S.

Location: Crary Lab, McMurdo Station, Antarctica.

Dates: December 1, 2006 to February 28, 2008.

Nadene G. Kennedy,
Permit Officer, Office of Polar Programs.

[FR Doc. 06-7748 Filed 9-18-06; 8:45 am]

BILLING CODE 7555-01-M